EXPORT-IMPORT BANK OF THE UNITED STATES

Advisory Committee Meeting

ACTION: Notice of open meeting of the Advisory Committee of the Export-Import Bank of the United States (Ex-Im Bank).

Time and Place: Friday, December 14, 2012 from 9:00 a.m. to 12:30 p.m. The meeting will be held at the Export-Import Bank in Room 326, 811 Vermont Avenue NW., Washington, DC 20571.

SUMMARY: The Advisory Committee was established November 30, 1983, to advise the Export-Import Bank on its programs and to provide comments for inclusion in the reports of the Export-Import Bank of the United States to Congress.

Agenda: Agenda items include a briefing for new 2013 Advisory Committee members regarding bank programs (including programs that support textile exports) as well as competitiveness and ethics overview.

Public Participation: The meeting will be open to public participation, and the last 10 minutes will be set aside for oral questions or comments. Members of the public may also file written statement(s) before or after the meeting. If any person wishes auxiliary aids (such as a sign language interpreter) or other special accommodations, please contact, prior to December 14, 2012, Richard Thelen, 811 Vermont Avenue NW., Washington, DC 20571, Voice: (202) 565-3515 or TDD (202) 565-3377.

Further Information: For further information, contact Richard Thelen, 811 Vermont Ave. NW., Washington, DC 20571, (202) 565-3515.

Sharon A. Whitt,
Agency Clearance Officer.

[FR Doc. 2012-29262 Filed 12-3-12; 8:45 am]

BILLING CODE 6690-01-P